DEPARTMENT OF HOMELAND SECURITY

Coast Guard

[Docket No. USCG-2021-0345]

Notice of Availability of Draft Study; Extension of Comment Period

AGENCY: Coast Guard, DHS.

ACTION: Notice of availability and extension of comment period.

SUMMARY: The Coast Guard is extending the comment period of the draft Pacific Coast Port Access Route Study (PAC-PARS) in order to provide stakeholders with additional time to provide the Coast Guard with valuable input. This study evaluates safe access routes for the movement of vessel traffic proceeding to or from ports or places along the western seaboard of the United States and determines whether a shipping safety fairway (“fairway”) and/or routing measures should be established, adjusted or modified.

DATES: Comments must be submitted to the online docket via https://www.regulations.gov on or before November 8, 2022.

ADDRESSES: You may submit comments identified by docket number USCG-2021-0345 using the Federal Decision Making Portal at https://www.regulations.gov. See the “Public Participation and Request for Comments” portion of the SUPPLEMENTARY INFORMATION section for further instructions on submitting comments.

FOR FURTHER INFORMATION CONTACT: For information about this document call or email LCDR Sara Conrad, Coast Guard Pacific Area (PAC-54), U.S. Coast Guard; telephone (510) 437-3813, email Sara.E.Conrad@uscg.mil or Mr. Tyrone Conner, Eleventh Coast Guard District (dpw), U.S. Coast Guard; telephone (510) 437-2968, email Tyrone.L.Conner@uscg.mil or Mr. John Moriarty, Thirteenth Coast Guard District (dpw), U.S. Coast Guard; telephone (206) 220-7274, email John.F.Moriarty@uscg.mil.

SUPPLEMENTARY INFORMATION:

Public Participation and Comments

Two webinars are being offered to present the contents of the draft study to the public and answer questions. The first webinar was held on October 4th, 2022. The presentation slides and a recording of the webinar are available on the PAC-PARS Homeport website here: https://cglink.uscg.mil/efedac43. The second webinar will be held on Tuesday, October 11th, 2022 at 11:00am PST. The link to register can also be found on the PAC-PARS Homeport website: https://cglink.uscg.mil/efedac43.

We encourage you to submit comments (or related material) on the draft PAC-PARS. We will consider all submissions and may adjust our final recommendations based on your comments. If you submit a comment, please include the docket number for this notice, indicate the specific section of this document to which each comment applies, and provide a reason for each suggestion or recommendation.

Submitting comments. We encourage you to submit comments through the Federal Decision Making Portal at http://www.regulations.gov. To do so, go to https://www.regulations.gov, type USCG-2021-0345 in the search box and click “Search.” Next, look for this document in the Search Results column, and click on it. Then click on the Comment option. If your material cannot be submitted using http://www.regulations.gov, contact the person in the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

Discussion

The draft PAC-PARS was published on August 26, 2022 (87 FR 52587). The original comment period closes on October 25, 2022. However, the Coast Guard has been notified that several stakeholders would like more time to prepare their comments on the draft study. The Coast Guard has decided that an extension of the public comment period would be appropriate to allow interested parties additional time to submit comments for Coast Guard's consideration. Thus, the comment period is extended by 14 days until November 8, 2022. This notice is issued under authority of 46 U.S.C. 70003(c)(1).

Dated: October 6, 2022.
L. Hannah,
Captain, U.S. Coast Guard, Chief, Pacific Area Preparedness Division.

[FR Doc. 2022-22339 Filed 10-13-22; 8:45 am]

BILLING CODE 9110-04-P